ENVIRONMENTAL PROTECTION AGENCY

4O CFR Part 52

[EPA-R04-OAR-2008-O1 16-200807b; FRL-8560-4]

Approval and Promulgation of Implementation Plans; Georgia: Enhanced Inspection and Maintenance Plan

AGENCY: Environmental Protection Agency (EPA).

ACTION: Proposed rule.

SUMMARY: EPA is proposing to approve revisions to the Georgia State Implementation Plan (SIP), submitted by the Georgia Department of Natural Resources, through the Georgia Environmental Protection Division, on December 28, 2007. The revisions include minor changes to Georgia's Air Quality Rules found at Chapter 391-3 20-.17, pertaining to rules for Enhanced Inspection and Maintenance (I/M). Enhanced I/M was required for 1-hour ozone nonattainment areas classified as serious and above, under the Clean Air Act (CAA). The enhanced I/M program is not a required measure for Atlanta for the 8-hour ozone standard pursuant to the CAA because the area is classified as a moderate nonattainment area (73 FR 12013). However, the enhanced I/M program was approved into the SIP for the 1-hour ozone standard and will remain in the SIP until such time that the State removes the requirement. To remove the requirement from the SIP, the State would have to make a demonstration that removal of this program would not interfere with or delay attainment consistent with section 110(1) of the CAA. The I/M program is a way to ensure that vehicles are maintained properly and verify that the emission control system is operating correctly, in order to reduce vehicle-related emissions. Specifically, the changes update the amount of repair costs that may qualify for a waiver for 2008.

This action is being taken pursuant to section 110 of the CAA. In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this proposal. Any parties interested in commenting on this proposal should do so at this time.

DATES: Written comments must be received on or before June 4, 2008.

ADDRESSES: Submit your comments, identified by Docket ID No. EPA-R04-OAR-2008-0116, by one of the following methods:

1. www.regulations.gov: Follow the on-line instructions for submitting comments.

2. E-mail: harder.stacy@epa.gov.

3. Fax: (404) 562-9019.

4. Mail: “EPA-R04-OAR-2008-0116,” Regulatory Development Section, Air Planning Branch, Air, Pesticides and Toxics Management Division, U.S. Environmental Protection Agency, Region 4, 61 Forsyth Street, SW., Atlanta, Georgia 30303-8960.

5. Hand Delivery or Courier: Stacy Harder, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Please see the direct final rule which is located in the Rules section of this Federal Register for detailed instructions on how to submit comments.

FOR FURTHER INFORMATION CONTACT: Stacy Harder, Regulatory Development Section, Air Planning Branch, Air, Pesticides and Toxics Management Division, U.S. Environmental Protection Agency, Region 4, 61 Forsyth Street, SW., Atlanta, Georgia 30303-8960. The telephone number is (404) 562-8965. Ms. Harder can also be reached via electronic mail at harder.stacy@epa.gov.

SUPPLEMENTARY INFORMATION: For additional information see the direct final rule which is published in the Rules Section of this Federal Register.

Dated: April 17, 2008.
Russell L. Wright, Jr.,
Acting Regional Administrator, Region 4.

[FR Doc. E8-9732 Filed 5-2-08; 8:45 am]

BILLING CODE 6560-50-M